DEPARTMENT OF THE INTERIOR

National Park Service

[NPS-WASO-NAGPRA-22911; PPWOCRADN0-PCU00RP14.R50000]

Notice of Inventory Completion: Human Remains Repository, Department of Anthropology, University of Wyoming, Laramie, WY

AGENCY: National Park Service, Interior.

ACTION: Notice.

SUMMARY: The Human Remains Repository, Department of Anthropology, University of Wyoming, Laramie, WY, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Human Remains Repository, Department of Anthropology, University of Wyoming, Laramie, WY. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Human Remains Repository, Department of Anthropology, University of Wyoming, Laramie, WY, at the address in this notice by April 12, 2017.

ADDRESSES: Dr. Rick L. Weathermon, Curator, Human Remains Repository, Department 3431, Anthropology, 1000 East University Avenue, University of Wyoming, Laramie, WY 82071, telephone (307) 314-2035, email rikw@uwyo.edu.

SUPPLEMENTARY INFORMATION: Notice is here given in accordance with the Native American Graves Protection and Repatriation Act (NAGPRA), 25 U.S.C. 3003, of the completion of an inventory of human remains under the control of the Human Remains Repository, Department of Anthropology, University of Wyoming, Laramie, WY. The human remains were removed from the west side of the Miners Point site (HR330), Kodiak Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Human Remains Repository, Department of Anthropology, University of Wyoming, professional staff in consultation with representatives of the Native Village of Larsen Bay.

History and Description of the Remains

Prior to 1991, human remains representing, at minimum, one individual were removed from the west side of the Miner's Point site (HR330), Kodiak Island, AK, probably by a Rock Springs, WY, physician. By 1991, the human remains had been given to Western Wyoming College in Rock Springs, WY. In October 2016, the University of Wyoming evaluated the NAGPRA status of all human remains in their possession. Following analysis, in December of 2016, the Miner's Point individual (HR330) was formally accessioned into the Human Remains Repository, Department of Anthropology, University of Wyoming. The remains consist of a fragmentary human cranium of a Native American male, over the age of 50. No known individual was identified. No associated funerary objects are present.

The human remains are of an unknown age. The Alutiiq people assert that they have continuously lived on Kodiak Island and the surrounding areas for at least 7,000 years, which is the entire human history of the location. The human remains exhibit skeletal characteristics consistent with an assessment of Alaskan Native.

Determinations Made by the Human Remains Repository, Department of Anthropology, University of Wyoming

Officials of the Human Remains Repository, Department of Anthropology, University of Wyoming have determined that:

• Pursuant to 25 U.S.C. 3001(9), the human remains described in this notice represent the physical remains of one individual of Native American ancestry.

• Pursuant to 25 U.S.C. 3001(3)(A), no objects are present that are reasonably believed to have been placed with or near individual human remains at the time of death or later as part of the death rite or ceremony.

• Pursuant to 25 U.S.C. 3001(2), there is a relationship of shared group identity that can be reasonably traced between the Native American human remains and the Native Village of Larsen Bay.

Additional Requestors and Disposition

Lineal descendants or representatives of any Indian tribe or Native Hawaiian organization not identified in this notice that wish to request transfer of control of these human remains should submit a written request with information in support of the request to Dr. Rick L. Weathermon, Curator, Human Remains Repository, Department 3431, Anthropology, 1000 East University Avenue, University of Wyoming, Laramie, WY 82071, telephone (307) 314-2035, email rikw@uwyo.edu.by April 12, 2017. After that date, if no additional requestors have come forward, transfer of control of the human remains to the Native Village of Larsen Bay may proceed.

The Human Remains Repository, Department of Anthropology, University of Wyoming is responsible for notifying the Native Village of Larsen Bay that this notice has been published.

Dated: February 9, 2017.
Melanie O'Brien,
Manager, National NAGPRA Program.

[FR Doc. 2017-04861 Filed 3-10-17; 8:45 am]

BILLING CODE 4312-52-P